DEPARTMENT OF DEFENSE

GENERAL SERVICES ADMINISTRATION

NATIONAL AERONAUTICS AND SPACE ADMINISTRATION

48 CFR Chapter 1

[Docket No. FAR 2016-0051, Sequence No. 1]

Federal Acquisition Regulation; Federal Acquisition Circular 2005-87; Small Entity Compliance Guide

AGENCY: Department of Defense (DoD), General Services Administration (GSA), and National Aeronautics and Space Administration (NASA).

ACTION: Small Entity Compliance Guide.

SUMMARY: This document is issued under the joint authority of DOD, GSA, and NASA. This Small Entity Compliance Guide has been prepared in accordance with section 212 of the Small Business Regulatory Enforcement Fairness Act of 1996. It consists of a summary of the rules appearing in Federal Acquisition Circular (FAC) 2005-87, which amends the Federal Acquisition Regulation (FAR). An asterisk (*) next to a rule indicates that a regulatory flexibility analysis has been prepared. Interested parties may obtain further information regarding these rules by referring to FAC 2005-87, which precedes this document. These documents are also available via the Internet at http://www.regulations.gov.

DATES: March 7, 2016.

FOR FURTHER INFORMATION CONTACT: For clarification of content, contact the analyst whose name appears in the table below. Please cite FAC 2005-87 and the FAR case number. For information pertaining to status or publication schedules, contact the Regulatory Secretariat at 202-501-4755.

Rules Listed in FAC 2005-87
Item | Subject | FAR case | Analyst
*I | Information on Corporate Contractor Performance and Integrity | 2013-020 | Davis.
II | Technical Amendments

SUPPLEMENTARY INFORMATION: Summaries for each FAR rule follow. For the actual revisions and/or amendments made by these rules, refer to the specific item numbers and subjects set forth in the documents following these item summaries. FAC 2005-87 amends the FAR as follows:

Item I—Information on Corporate Contractor Performance and Integrity (FAR Case 2013-020)

This final rule amends the FAR to implement a section of the National Defense Authorization Act for Fiscal Year 2013 to include in the Federal Awardee Performance and Integrity Information System, to the extent practicable, identification of any immediate owner or subsidiary, and all predecessors of an offeror that held a Federal contract or grant within the last three years. The objective is to provide a more comprehensive understanding of the performance and integrity of the corporation before awarding a Federal contract.

This final rule will not have a significant economic impact on a substantial number of small entities.

Item II—Technical Amendments

Editorial changes are made at FAR 4.1703(a)(1), 22.1904(b)(1), 25.1102(d)(3), 36.607(b), 52.212-3(h), 52.212-3(p) and (q), and (p) and (q) of Alternate I, 52.212-5(c)(8), (e)(1)(xv), (e)(1)(ii)(N) of Alternate II, and 52.213-4(b)(1)(ix).

Dated: February 29, 2016.
William Clark,
Director, Office of Government-wide Acquisition Policy, Office of Acquisition Policy, Office of Government-wide Policy.

[FR Doc. 2016-04775 Filed 3-4-16; 8:45 am]

BILLING CODE 6820-EP-P